FEDERAL TRADE COMMISSION

Agency Information Collection Activities; Submission for OMB Review; Comment Request

AGENCY: Federal Trade Commission (FTC).

ACTION: Notice and request for comment.

SUMMARY: The FTC requests that the Office of Management and Budget (OMB) extend for three years the current Paperwork Reduction Act (PRA) clearance for information collection requirements contained in the Telemarketing Sales Rule (TSR or Rule). That clearance expires on September 30, 2022.

DATES: Comments must be received by September 26, 2022.

ADDRESSES: Written comments and recommendations for the proposed information collection should be sent within 30 days of publication of this notice to www.reginfo.gov/public/do/PRAMain. Find this particular information collection by selecting “Currently under 30-day Review—Open for Public Comments” or by using the search function. The reginfo.gov web link is a United States Government website produced by OMB and the General Services Administration (GSA). Under PRA requirements, OMB's Office of Information and Regulatory Affairs (OIRA) reviews Federal information collections.

FOR FURTHER INFORMATION CONTACT: Benjamin R. Davidson, Attorney, Bureau of Consumer Protection, (202) 326-3055, Federal Trade Commission, 600 Pennsylvania Ave. NW, Washington, DC 20580.

SUPPLEMENTARY INFORMATION:

Title: Telemarketing Sales Rule, 16 CFR part 310.

OMB Control Number: 3084-0097.

Type of Review: Extension of a currently approved collection.

Abstract: As required by the Telemarketing and Consumer Fraud and Abuse Prevention Act, 15 U.S.C. 6101-6108 (the Telemarketing Act), the TSR mandates certain disclosures for telephone sales and requires telemarketers to retain certain records regarding advertising, sales, and employees. The required disclosures provide consumers with information necessary to make informed purchasing decisions. The required records are to be made available for inspection by the Commission and other law enforcement personnel to determine compliance with the Rule. Required records may also yield information helpful to measuring and redressing consumer injury stemming from Rule violations.

Likely Respondents: Telemarketers to consumers.

Estimated Annual Hours Burden: 1,228,050 hours.

• Disclosures (for live telemarketing calls and prerecorded calls): 1,215,946 hours (which is derived from 826,389 hours for pre-sales disclosures + 363,048 hours for general sales disclosures + 26,509 hours for specific sales disclosures).

• Reporting: 219 hours.

• Recordkeeping: 11,885 hours.

Estimated Annual Labor Cost Burden: $18,367,441 (which is derived from $441,169 (recordkeeping) + $17,923,044 (disclosure) + $3,228 (reporting).¹

¹ The hourly wage rates for sales and related workers are based on mean hourly wages found at https://www.bls.gov/news.release/ocwage.t01.htm (“Occupational Employment and Wages—May 2021,” U.S. Department of Labor, released March 2022, Table 1 (“National employment and wage data from the Occupational Employment Statistics survey by occupation, May 2021”).

Estimated Annual Non-Labor Cost: $4,596,656 ² (which is derived from $219,250 (office supplies) + $4,377,406 (telephone charges)).

² This estimate corrects the prior estimate of $4,642,347 that was set out in the 60-Day Federal Register notice.

On April 19, 2022, the FTC sought comment on the information collection requirements associated with the Rule. 87 FR 23177. The FTC received no germane comments during the public comment period. Pursuant to OMB regulations, 5 CFR part 1320, that implement the PRA, 44 U.S.C. 3501 et seq., the FTC is providing this second opportunity for public comment while seeking OMB approval to renew the pre-existing clearance for the Rule. For more details about the Rule requirements and the basis for the calculations summarized below, see 87 FR 15995.

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2022-18406 Filed 8-25-22; 8:45 am]

BILLING CODE 6750-01-P